DEPARTMENT OF TRANSPORTATION

Office of the Secretary

National Freight Advisory Committee: Notice of Public Meeting

ACTION: Notice of Public Meeting.

SUMMARY: This notice announces a public meeting of the National Freight Advisory Committee (NFAC). The NFAC will provide information, advice, and recommendations to the U.S. Secretary of Transportation on matters relating to U.S. freight transportation, including implementation of the Moving Ahead for Progress in the 21st Century Act (MAP-21), Public Law 112-141.

DATES: The meeting will be held on June 25, 2013, from 9:00 a.m. to 5:30 p.m., Eastern Standard Time.

ADDRESSES: The meeting will be held at the U.S. Department of Transportation, 1200 New Jersey Avenue SE., Washington, DC 20590.

FOR FURTHER INFORMATION CONTACT: Tretha Chromey, Designated Federal Officer at (202) 366-1999 or freight@dot.gov or visit the NFAC Web site at www.dot.gov/nfac which is under construction.

Additional Information

Background: The NFAC is established under the authority of the U.S. Department of Transportation, in accordance with the provisions of the Federal Advisory Committee Act (5 U.S.C. App. 2). The Secretary of Transportation has determined that establishment of the committee is in the public interest. The NFAC provides advice and recommendations to the Secretary on matters related to freight transportation in the United States, including (1) Implementation of the freight transportation requirements of the Moving Ahead for Progress in the 21st Century Act (Pub. L. 112-141); (2) establishment of the National Freight Network; (3) development of a National Freight Strategic Plan; (4) development of strategies to help States implement State Freight Advisory Committees and State Freight Plans; and (5) development of measures of conditions and performance in freight transportation; (6) development of freight transportation investment, data, and planning tools; and (7) legislative recommendations. Agenda: This will be the NFAC's inaugural meeting. The meeting agenda will be posted on the NFAC Web site at www.dot.gov/nfac in advance of the meeting.

Agenda: This will be the NFAC's inaugural meeting. Representatives from the U.S. Department of Transportation will provide an overview of MAP-21 freight provisions and an update of the Department's progress implementing them. The Committee will begin to develop a list of tasks to complete and prioritize those tasks for the Department to consider. The agenda will be posted on the NFAC Web site at www.dot.gov/nfac in advance of the meeting.

Public Participation: The meeting will be open to the public and press on a first-come, first served basis. Space is limited. The public meeting is physically accessible to people with disabilities. Individuals requiring accommodations, such as sign language interpretation or other ancillary aids, are asked to notify Ms. Tretha Chromey, at (202) 366-1999 or freight@dot.gov five (5) business days before the meeting.

Members of the public who wish to attend in person are asked to RSVP to freight@dot.gov with your name and affiliation no later than June 18, 2013, in order to facilitate entry and guarantee seating.

Written comments: Persons who wish to submit written comments for consideration by the Committee must email freight@dot.gov or send them to Ms. Tretha Chromey, Designated Federal Officer, National Freight Advisory Committee, 1200 New Jersey Avenue SE., W82-320, Washington, DC 20590 by June 18, 2013 to provide sufficient time for review. All other comments may be received at any time before or after the meeting.

Dated: May 30, 2013.
Tretha Chromey,
Designated Federal Officer.

[FR Doc. 2013-13301 Filed 6-4-13; 8:45 am]

BILLING CODE 4910-9X-P